DEPARTMENT OF AGRICULTURE

Rural Housing Service

Section 538 Guaranteed Rural Rental Housing Program 2011 Industry Forums—Open Teleconference and/or Web Conference Meetings

AGENCY: Rural Housing Service, USDA.

ACTION: Notice.

SUMMARY: This notice announces a series of teleconference and/or Web conference meetings regarding the USDA Section 538 Guaranteed Rural Rental Housing Program, which are scheduled to occur during the months of February, June, and October of 2011. This notice also outlines suggested discussion topics for the meetings and is intended to notify the general public of their opportunity to participate in the teleconference and/or Web conference meetings.

DATES: The dates and times for the teleconference and/or Web conference meetings will be announced via e-mail to parties registered as described below.

FOR FURTHER INFORMATION CONTACT: Any member of the public wishing to register for the calls and obtain the call-in number, access code, Web link and other information for any of the public teleconferences and or Web conferences may contact Monica Cole, Financial and Loan Analyst, Multifamily Housing Guaranteed Loan Division, Rural Development, U.S. Department of Agriculture, telephone: (202) 720-1251, fax: (202) 205-5066, or e-mail: monica.cole@wdc.usda.gov. Those who request registration less than 15 calendar days prior to the date of a teleconference and/or Web conference meetings may not receive notice of that teleconference and/or Web conference meeting, but will receive notice of future teleconference and/or Web conference meetings. The Agency expects to accommodate each participant's preferred form of participation by telephone or via Web link. However, if it appears that existing capabilities may prevent the Agency from accommodating all requests for one form of participation, each participant will be notified and encouraged to consider an alternative form of participation. Individuals who plan to participate and need language translation assistance should inform the Contact Person within ten business days in advance of the meeting date.

SUPPLEMENTARY INFORMATION: The objectives of this series of teleconferences are as follows:

• Enhance the effectiveness of the Section 538 Guaranteed Rural Rental Housing Program.

• Establish a two way communications forum to update industry participants and Rural Housing Service (RHS) staff.

• Enhance RHS' awareness of the market and other forces that impact the Section 538 Guaranteed Rural Rental Housing Program.

Topics to be discussed could include but will not be limited to the following:

• Updates on USDAs Section 538 Guaranteed Rural Rental Housing Program activities.

• Perspectives on the current state of debt financing and its impact on the Section 538 program.

• Enhancing the use of Section 538 financing with the transfer and/or preservation of Section 515 developments.

• The impact of Low Income Housing Tax Credits program changes on Section 538 financings.

USDA prohibits discrimination in all its programs and activities on the basis of race, color, national origin, age, disability, and where applicable, sex, marital status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: February 3, 2011.
Tammye Treviño,
Administrator, Rural Housing Service.

[FR Doc. 2011-3300 Filed 2-14-11; 8:45 am]

BILLING CODE 3410-XV-P